DEPARTMENT OF ENERGY

Environmental Management Site-Specific Advisory Board, Northern New Mexico

AGENCY: Office of Environmental Management, Department of Energy.

ACTION: Notice of open conference call.

SUMMARY: This notice announces a conference call of the Environmental Management Site-Specific Advisory Board (EM SSAB), Northern New Mexico. The Federal Advisory Committee Act requires that public notice of this conference call be announced in the Federal Register.

DATES: Wednesday, May 20, 2020; 1:00 p.m.—3:00 p.m.

Conference Call: Call in number: (888) 330-1716, Access code: 2485219#.

FOR FURTHER INFORMATION: TO SIGN UP FOR PUBLIC COMMENT: Please contact Menice Santistevan by email, Menice.Santistevan@em.doe.gov, or phone (505) 699-0631, no later than 5:00 p.m. MDT on Tuesday, May, 19, 2020.

SUPPLEMENTARY INFORMATION:

Purpose of the Board: The purpose of the Board is to make recommendations to DOE-EM and site management in the areas of environmental restoration, waste management, and related activities.

Tentative Agenda

• Call to Order

• Welcome and Introductions

• Approval of Agenda

• Approval of February 26, 2020 Meeting Minutes

• Old Business

○ Report from NNMCAB Chair and Vice Chair

○ Report from Committee Chairs

○ Other Items

• New Business

• Consideration and Action on Draft Recommendation 2020-02: Soil Vapor Extraction System at Material Disposal Area C

• Update from EM Los Alamos Field Office

• Public Comment Period

• Wrap-Up Comments from NNMCAB Members

• Adjourn

Public Participation: Written statements may be filed with the Board either before or after the conference call. The Deputy Designated Federal Officer is empowered to conduct the conference call in a fashion that will facilitate the orderly conduct of business. Individuals wishing to make public comments will be provided a maximum of five minutes to present their comments.

Minutes: Minutes will be available by writing or calling Menice Santistevan at the address or telephone number listed above. Minutes and other Board documents are on the internet at: https://www.energy.gov/em/nnmcab/meeting-materials.

Signed in Washington, DC, on April 23, 2020.
LaTanya Butler,
Deputy Committee Management Officer.

[FR Doc. 2020-08966 Filed 4-27-20; 8:45 am]

BILLING CODE 6450-01-P